DEPARTMENT OF TRANSPORTATION

Federal Aviation Administration

14 CFR Part 91

[Docket No. FAA-2018-0926; Notice No. 18-02A]

RIN 2120-AL09

Removal of the Date Restriction for Flight Training in Experimental Light Sport Aircraft; Withdrawal

AGENCY: Federal Aviation Administration (FAA), DOT.

ACTION: Notice of proposed rulemaking (NPRM); withdrawal.

SUMMARY: The FAA is withdrawing a previously published notice of proposed rulemaking that proposed to amend the regulations governing the operating limitations for certain experimental light-sport aircraft. The rulemaking proposed to remove the date restriction that currently prevents flight training on these aircraft and add language to permit training in certain experimental light-sport aircraft for compensation or hire through existing deviation authority. The FAA is withdrawing this action because the FAA is concurrently publishing a notice of proposed rulemaking to address the framework of flight training in certain aircraft holding special airworthiness certificates, which will include experimental light-sport aircraft.

DATES: The NPRM published on October 24, 2018, at 83 FR 53590 is withdrawn, as of June 23, 2023.

FOR FURTHER INFORMATION CONTACT: Jabari Raphael, General Aviation and Commercial Division, Flight Standards Service, Federal Aviation Administration, 800 Independence Avenue SW, Washington, DC 20591; telephone (202) 267-1088; email jabari.raphael@faa.gov.

SUPPLEMENTARY INFORMATION:

Background

On October 24, 2018, the FAA published a notice of proposed rulemaking (NPRM) titled “Removal of the Date Restriction for Flight Training in Experimental Light Sport Aircraft” in the Federal Register ¹ (ELSA NPRM). In the NPRM, the FAA proposed to revise regulations concerning the operation of experimental light-sport aircraft (ELSA). The rulemaking proposed to amend § 91.319(e)(2) of Title 14 of the Code of Federal Regulations (14 CFR) to add language to explicitly permit training in ELSA for compensation or hire through existing deviation authority provided in § 91.319(h). Through § 91.319(h), the FAA may issue a letter of deviation authority (LODA) providing relief from § 91.319(a) for the purpose of conducting flight training; accordingly, the NPRM proposed to add relief from paragraph (e)(2) through this established process. The FAA proposed this change to increase safety to facilitate the increased availability of aircraft with similar performance and handling characteristics to light-sport aircraft and ultralights to be used for training.

¹ 83 FR 53590.

The NPRM comment period closed on November 23, 2018. The FAA received a total of 99 comments to the NPRM, submitted by individuals and the Experimental Aircraft Association (EAA). All of the comments expressed general support for the proposed changes in the NPRM, with some comments requesting that the FAA consider additional regulatory revisions, which were out of scope of the proposed rule. These comments are no longer applicable given the scope of the subsequently discussed rulemaking, which is intended to address the framework of flight training in ELSA.

Withdrawal of the NPRM

After publication and comments to the ELSA NPRM were considered, the FAA noted a discrepancy between the plain language of § 91.319 and FAA guidance to its inspectors on the approach to flight training in aircraft holding special airworthiness certificates ² when no compensation is provided for the use of the aircraft. This discrepancy resulted in an inability for owners of experimental aircraft, including ELSA, to receive and provide compensation for specialized flight training and checking without holding a LODA from the FAA. This development prompted the FAA to propose a rule change that would resolve the discrepancy and better serve the public interest. The FAA recognizes that additional regulatory clarification, which is outside the scope of the ELSA proposed rule, is necessary to more sufficiently define both the permissions and the limitations of flight training for compensation or hire in certain aircraft that hold special airworthiness certificates.

² Special airworthiness certificates are primary, restricted, limited, light-sport, and provisional airworthiness certificates, special flight permits, and experimental certificates. See § 21.175.

The FAA notes that, for experimental aircraft, the discrepancy between the regulation and FAA guidance was resolved in section 5604 of the James M. Inhofe National Defense Authorization Act for 2023 (Pub. L. 117-263). That section directs that flight training, testing, and checking in experimental aircraft does not require a LODA from the FAA if certain conditions set forth in the legislation are met. The FAA has concurrently published an NPRM titled “Public Aircraft Logging of Flight Time, Training in Certain Aircraft Holding Special Airworthiness Certificates, and Flight Instructor Privileges,” ³ intended to codify the legislation for experimental aircraft and expand the terms of the legislation to flight training, testing, and checking in other aircraft holding special airworthiness certificates. The expanded scope of the concurrently published proposed rulemaking will more comprehensively address the parameters of flight training in aircraft that hold certain special airworthiness certificates including light-sport aircraft and will create a consistent flight training framework for limited category aircraft and experimental aircraft, respectively.⁴ Therefore, the FAA is withdrawing the ELSA NPRM, and flight training in ELSA will be more appropriately incorporated in the aforementioned rulemaking.

³ RIN 2120-AL61.

⁴ The expanded scope will also address flight training in primary category aircraft.

The FAA notes that comments received to the ELSA NPRM will not be addressed in the “Public Aircraft Logging of Flight Time, Training in Certain Aircraft Holding Special Airworthiness Certificates, and Flight Instructor Privileges” rulemaking because the concurrently published NPRM will more comprehensively address the flight training in ELSA due to the expanded scope. Therefore, while the concurrently published NPRM contains some similar provisions, proposed amendments to § 91.319 are significantly different from the changes proposed in ELSA and comments to the ELSA NPRM are no longer applicable. The public may view and provide comments on the concurrently published “Public Aircraft Logging of Flight Time, Training in Certain Aircraft Holding Special Airworthiness Certificates, and Flight Instructor Privileges” NPRM.

Conclusion

Withdrawal of Notice No. 18-02 does not preclude the FAA from issuing rulemaking on the subject in the future or commit the agency to any future course of action. The FAA will make necessary changes to the Code of Federal Regulations through an NPRM with opportunity for public comment in the new rulemaking project.

Therefore, the FAA withdraws Notice No. 18-02, FR Doc. 2018-23270, published at 83 FR 53590 on October 24, 2018.

Issued under authority provided by 49 U.S.C. 106(f), 44701(a), and 44703 in Washington, DC.
Wesley L. Mooty,
Acting Deputy Executive Director, Flight Standards Service.

[FR Doc. 2023-13024 Filed 6-22-23; 8:45 am]

BILLING CODE 4910-13-P